DEPARTMENT OF TRANSPORTATION

Federal Aviation Administration

14 CFR Part 39

[Docket No. FAA-2006-26706; Directorate Identifier 2006-NM-216-AD]

RIN 2120-AA64

Airworthiness Directives; Airbus Model A319, A320, and A321 Airplanes

AGENCY: Federal Aviation Administration (FAA), Department of Transportation (DOT).

ACTION: Notice of proposed rulemaking (NPRM).

SUMMARY: The FAA proposes to adopt a new airworthiness directive (AD) for certain Airbus Model A319, A320, and A321 airplanes. This proposed AD would require installing spacer assemblies at the attachment points of the YZ-latches of the cargo loading system in the forward and aft cargo compartments, as applicable. This proposed AD results from tests that have shown that the attachment points of the YZ-latches of the cargo loading system fail under maximum loads. We are proposing this AD to prevent failure of the attachment points of the YZ-latches, which could result in unrestrained cargo causing damage to the fire protection system, hydraulic system, electrical wiring, or other equipment located in the forward and aft cargo compartments. This damage could adversely affect the continued safe flight of the airplane.

DATES: We must receive comments on this proposed AD by January 29, 2007.

ADDRESSES: Use one of the following addresses to submit comments on this proposed AD.

• DOT Docket web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9:00 a.m. and 5:00 p.m., Monday through Friday, except Federal holidays.

Contact Airbus, 1 Rond Point Maurice Bellonte, 31707 Blagnac Cedex, France, for service information identified in this proposed AD.

FOR FURTHER INFORMATION CONTACT: Dan Rodina, Aerospace Engineer, International Branch, ANM-116, FAA, Transport Airplane Directorate, 1601 Lind Avenue, SW., Renton, Washington 98057-3356; telephone (425) 227-2125; fax (425) 227-1149.

SUPPLEMENTARY INFORMATION:

Comments Invited

We invite you to submit any relevant written data, views, or arguments regarding this proposed AD. Send your comments to an address listed in the ADDRESSES section. Include the docket number “FAA-2006-26706; Directorate Identifier 2006-NM-216-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The European Aviation Safety Agency (EASA), which is the airworthiness authority for the European Union, notified us that an unsafe condition may exist on certain Airbus Model A319, A320, and A321 airplanes. The EASA advises that tests have revealed that the attachment points of the YZ-latches of the cargo loading system fail under maximum loads. Unrestrained cargo parts, if not corrected, could result in damage to the fire protection system, hydraulic system, electrical wiring, or other equipment located in the forward and aft cargo compartments. This damage could adversely affect the continued safe flight of the airplane.

Relevant Service Information

Airbus has issued Service Bulletin A320-25-1294, Revision 01, dated March 27, 2006. The service bulletin describes procedures for installing spacer assemblies (supporting ring with spring ring) at the attachment points of the YZ-latches of the cargo loading system in the forward and aft cargo compartments, as applicable. Accomplishing the actions specified in the service information is intended to adequately address the unsafe condition. The EASA mandated the service information and issued airworthiness directive 2006-0184, dated July 3, 2006, to ensure the continued airworthiness of these airplanes in the European Union.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for airplanes of this type design that are certificated for operation in the United States.

Therefore, we are proposing this AD, which would require accomplishing the actions specified in the service information described previously, except as discussed under “Difference Between the Proposed AD and EASA Airworthiness Directive.”

Differences Between the Proposed AD and EASA Airworthiness Directive

The applicability of EASA airworthiness directive 2006-0184 excludes airplanes on which Airbus Service Bulletin A320-25-1294 has been accomplished in service. However, we have not excluded those airplanes in the applicability of this proposed AD; rather, this proposed AD includes a requirement to accomplish the actions specified in Revision 01 of that service bulletin. This requirement would ensure that the actions specified in the service bulletin and required by this proposed AD are accomplished on all affected airplanes. Operators must continue to operate the airplane in the configuration required by this proposed AD unless an alternative method of compliance is approved.

Costs of Compliance

This proposed AD would affect about 1 airplane of U.S. registry. The proposed actions would take about 4 work hours per airplane, at an average labor rate of $80 per work hour. Required parts would cost about $2,049 per airplane. Based on these figures, the estimated cost of the proposed AD for the U.S. operator is $2,369.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-26706; Directorate Identifier 2006-NM-216-AD.

Comments Due Date

(a) The FAA must receive comments on this AD action by January 29, 2007.

Affected ADs

(b) None.

Applicability

(c) This AD applies to Airbus Model A319, A320, and A321 airplanes identified in paragraphs (c)(1) and (c)(2) of this AD, certificated in any category. This AD excludes Airbus Model A319, A320, and A321 airplanes identified in paragraph (c)(3) of this AD, certificated in any category.

(1) Including airplanes on which one the following has been incorporated in production: Airbus Modification 20065, 20040, 24495, 24848, 24496, 21895, 21896, 25905, 25907, 22601, 22602, 27187, 28319, 28322, 28330, 28335, or 31797.

(2) Including airplanes on which one of the following has been incorporated in service: Airbus Service Bulletin A320-25-1132, A320-25-1133, A320-25-1145, A320-25-1175, A320-25-1177, A320-25-1276, A320-25-1278, A320-28-1134, or A320-28-1141.

(3) Excluding airplanes on which both Airbus Modifications 32244 and 32245, or both Airbus Modifications 32316 and 32317, have been incorporated in production.

Unsafe Condition

(d) This AD results from tests that have shown that the attachment points of the YZ-latches of the cargo loading system fail under maximum loads. We are issuing this AD to prevent failure of the attachment points of the YZ-latches, which could result in unrestrained cargo causing damage to the fire protection system, hydraulic system, electrical wiring, or other equipment located in the forward and aft cargo compartments. This damage could adversely affect the continued safe flight of the airplane.

Compliance

(e) You are responsible for having the actions required by this AD performed within the compliance times specified, unless the actions have already been done.

Installation

(f) Within 36 months after the effective date of this AD, install spacer assemblies at the attachment points of the YZ-latches of the cargo loading system in the forward and aft cargo compartments, as applicable, in accordance with the Accomplishment Instructions of Airbus Service Bulletin A320-25-1294, Revision 01, dated March 27, 2006.

Credit for Actions Done According to Previous Issue of Service Bulletin

(g) Actions done before the effective date of this AD in accordance with Airbus Service Bulletin A320-25-1294, dated March 14, 2003, are acceptable for compliance with the corresponding requirements of paragraph (f) of this AD.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) European Aviation Safety Agency (EASA) airworthiness directive 2006-0184, dated July 3, 2006, also addresses the subject of this AD.

Issued in Renton, Washington, on December 19, 2006.
Ali Bahrami,
Manager, Transport Airplane Directorate, Aircraft Certification Service.

[FR Doc. E6-22280 Filed 12-27-06; 8:45 am]

BILLING CODE 4910-13-P